DEPARTMENT OF TRANSPORTATION

Office of the Secretary

Aviation Proceedings, Agreements Filed the Week Ending February 3, 2006

The following Agreements were filed with the Department of Transportation under the Sections 412 and 414 of the Federal Aviation Act, as amended (49 U.S.C. 1382 and 1384) and procedures governing proceedings to enforce these provisions. Answers may be filed within 21 days after the filing of the application.

Docket Number: OST-2006-23855.

Date Filed: February 3, 2006.

Parties: Members of the International Air Transport Association.

Subject:

TC3 South East Asia South—Asian Subcontinent Singapore, 21 November-30 November 2005

Intended effective date: 1 April 2006 (Memo 0933).

Minutes: TC3 South East Asia—South Asian Subcontinent Singapore, 21 November-30 November 2005

Intended effective date: 1 April 2006 (Memo 0943).

Tables: TC3 South East Asia—South Asian Subcontinent Singapore, 21 November-30 November 2005

Intended effective date: 1 April 2006 (Memo 0380).

Docket Number: OST-2006-23852

Date Filed: February 3, 2006.

Parties: Members of the International Air Transport Association.

Subject:

TC3 Within South Asian Subcontinent Singapore, 21 November-30 November 2005.

Intended effective date: 1 April 2006 (Memo 0931).

Minutes: TC3 Within South Asian Subcontinent Singapore, 21 November-30 November 2005.

Intended effective date: 1 April 2006 (Memo 0943).

Tables: TC3 Within South Asian Subcontinent Singapore, 21 November-30 November 2005.

Intended effective date: 1 April 2006 (Memo 0381).

Docket Number: OST-2006-23853.

Date Filed: February 3, 2006.

Parties: Members of the International Air Transport Association.

Subject:

T TC3 Japan, Korea South Asian Subcontinent Singapore, 21 November-30 November 2005.

Intended effective date: 1 April 2006 (Memo 0932).

Minutes: TC3 Within South Asian Subcontinent Singapore, 21 November-30 November 2005.

Intended effective date: 1 April 2006 (Memo 0943).

Tables: TC3 Within South Asian Subcontinent Singapore, 21 November-30 November 2005.

Intended effective date: 1 April 2006 (Memo 0382).

Docket Number: OST-2006-23826.

Date Filed: February 2, 2006.

Parties: Members of the International Air Transport Association.

Subject:

TC3 Japan, Korea—South West Pacific except between Korea (Rep. of) and American Samoa Singapore, 21 November-30 November 2005.

Intended effective date: 1 April 2006 (Memo 0925).

Minutes: TC3 Japan, Korea—South West Pacific except between Korea (Rep. of) and American Samoa Singapore, 21 November-30 November 2005 (Memo 0943).

Fares: TC3 Japan, Korea—South West Pacific except between Korea (Rep. of) and American Samoa Singapore, 21 November-30 November 2005. Specified fare tables.

Intended effective date: 1 April 2006 (Memo 0385).

Docket Number: OST-2006-23828.

Date Filed: February 2, 2006.

Parties: Members of the International Air Transport Association.

Subject:

TC3 Within South West Pacific except between French Polynesia and American Samoa Singapore, 21 November-30 November 2005.

Intended effective date: 1 April 2006 (Memo 0927).

Minutes: TC3 Within South West Pacific except between French Polynesia and American Samoa Singapore, 21 November-30 November 2005 (Memo 0943).

Fares: TC3 Within South West Pacific except between French Polynesia and American Samoa.

Intended effective date: 1 April 2006.

Docket Number: OST-2006-23829.

Date Filed: February 2, 2006.

Parties: Members of the International Air Transport Association.

Subject:

TC3 Within South West Pacific between French Polynesia and American Samoa Singapore, 21 November-30 November 2005.

Intended effective date: 1 April 2006 (Memo 0928).

Minutes: TC3 Within South West Pacific between French Polynesia and American Samoa.

Fares: Singapore, 21 November-30 November 2005 (Memo 0943). TC3 Within South West Pacific between French Polynesia and American Samoa Singapore, 21 November-30 November 2005 (Memo 0378).

Intended effective date: 1 April 2006.

Docket Number: OST-2006-23827.

Date Filed: February 2, 2006.

Parties: Members of the International Air Transport Association.

Subject:

TC3 Japan, Korea—South West Pacific between Korea and American Samoa Singapore, 21 November-30 November 2005.

Intended effective date: 1 April 2006 (Memo 0926).

Minutes: TC3 Japan, Korea—South West Pacific between Korea and American Samoa Singapore, 21 November-30 November 2005 (Memo 0943).

Fares: TC3 Japan, Korea—South West Pacific between Korea and American Samoa Singapore, 21 November-30 November 2005. Specified fare tables.

Intended effective date: 1 April 2006 (Memo 0385).

Docket Number: OST-2006-23830.

Date Filed: February 2, 2006.

Parties: Members of the International Air Transport Association.

Subject:

TC3 Areawide Singapore, 21 November-30 November 2005.

Intended effective date: 1 April 2006 (Memo 0929).

Minutes: TC3 Areawide. Singapore, 21 November-30 November 2005 (Memo 0943)

Technical Correction: TC3 Areawide Singapore, 21 November-30 November 2005.

Intended effective date: 1 April 2006 (Memo 0940).

Docket Number: OST-2006-23805.

Date Filed: February 1, 2006.

Parties: Members of the International Air Transport Association.

Subject:

TC3 Within South East Asia except between Malaysia and Guam Singapore, 21 November-30 November 2005.

Intended effective date: 1 April 2006 (Memo 0921).

Minutes: TC3 Japan, Korea South East Asia between Korea (Rep. of) and Guam, Northern Mariana Islands Singapore, 21 November-30 November 2005 (Memo 0943).

Fares: TC3 Within South East Asia except between Malaysia and Guam Singapore, 21 November-30 November 2005. Specified fare tables.

Intended effective date: 1 April 2006 (Memo 0377).

Docket Number: OST-2006-23806

Date Filed: February 1, 2006.

Parties: Members of the International Air Transport Association.

Subject:

TC3 Within South East Asia from Malaysia to Guam Singapore, 21 November-30 November 2005

Intended Effective Date: 1 April 2006 (Memo 0922).

Minutes: TC3 Within South East Asia from Malaysia to Guam Singapore, 21 November-30 November 2005 (Memo 0943)

Fares: TC3 Within South East Asia from Malaysia to Guam Singapore, 21 November-30 November 2005 Specified Fare Tables

Intended effective date: 1 April 2006 (Memo 0377).

[Docket Number OST-2006-23808]

Date Filed: February 1, 2006.

Parties: Members of the International Air Transport Association.

Subject:

TC3 South East Asia—South West Pacific except between Malaysia and American Samoa Singapore, 21 November-30 November 2005

Intended effective date: 1 April 2006 (Memo 0923).

Minutes: T TC3 South East Asia—South West Pacific except between Malaysia and American Samoa Singapore, 21 November-30 November 2005 (Memo 0943)

Fares: TC3 South East Asia—South West Pacific except between Malaysia and American Samoa Singapore, 21 November-30 November 2005 Specified Fare Tables

Intended effective date: 1 April 2006 (Memo 0383).

[Docket Number OST-2006-23797]

Date Filed: January 31, 2006.

Parties: Members of the International Air Transport Association.

Subject: TC3 Japan, Korea—South East Asia between Korea (Rep. of) and Guam, Northern Mariana Islands Singapore, 21 November-30 November 2005

Intended effective date: 1 April 2006 (Memo 0920).

Minutes: TC3 Japan, Korea—South East Asia between Korea (Rep. of) and Guam, Northern Mariana Islands Singapore, 21 November-30 November 2005 (Memo 0943)

Fares: TC3 Japan-Korea Singapore, 21 November-30 November 2005 Specified Fare Tables

Intended effective date: 1 April 2006 (Memo 0384).

[Docket Number OST-2006-23790]

Date Filed: January 31, 2006.

Parties: Members of the International Air Transport Association.

Subject: TC3 Japan-Korea Singapore, 21 November-30 November 2005

Intended effective date: 1 April 2006 (Memo 0918).

Minutes: TC3 Japan-Korea Singapore, 21 November-30 November 2005 (Memo 0943)

Fares: TC3 Japan-Korea Singapore, 21 November-30 November 2005 Specified Fare Tables (Memo 0379)

Correction: TC3 Japan-Korea Singapore, 21-30 November 2005

Intended effective date: 1 April 2006 (Memo 0942). TC3 Japan-Korea Singapore, 21-30 November 2005

Intended effective date: 1 April 2006 (Memo 0387).

[Docket Number OST-2006-23791]

Date Filed: January 31, 2006.

Parties: Members of the International Air Transport Association.

Subject: TC3 Japan, Korea-South East Asia except between Korea (Rep. of) and Guam, Northern Mariana Islands Singapore, 21 November-30 November 2005

Intended effective date: 1 April 2006 (Memo 0919)

Minutes: TC3 Japan-Korea Singapore, 21 November-30 November 2005 (Memo 0943)

Fares: TC3 Japan-Korea Singapore, 21 November-30 November 2005 Specified fare tables

Intended effective date: 1 April 2006 (Memo 0384).

Renee V. Wright,
Program Manager, Docket Operations, Federal Register Liaison.

[FR Doc. E6-2540 Filed 2-22-06; 8:45 am]

BILLING CODE 4910-62-P